DEPARTMENT OF JUSTICE

Notice of Lodging of Proposed Consent Decree Under the Clean Water Act

On April 16, 2015, the Department of Justice filed a Complaint and simultaneously lodged a proposed Consent Decree with the United States District Court for the Eastern District of Pennsylvania in the lawsuit entitled United States, et al, v. Allan Myers, Inc., et al, Civil Action No. 15-1992.

This action involves the claim of the United States for civil penalties and injunctive relief brought pursuant to Section 309(b) and (d) of the Clean Water Act (“CWA”), 33 U.S.C. 1319(b) and (d), against Defendants for violations of the CWA at fourteen locations in Pennsylvania, Maryland, and Virginia, including: the discharge of pollutants in storm water without a permit in violation of CWA Section 301, 33 U.S.C. 1311; failure to timely submit the information required to obtain coverage under an applicable permit for the discharge of storm water associated with its construction activities in violation of CWA Section 308, 33 U.S.C. 1318; and for failure to comply with the conditions of permits (including various state general permits) issued pursuant to CWA Section 402, 33 U.S.C. 1342. The Consent Decree obligates the Defendants to pay a $455,000 civil penalty and requires the Defendants to implement a company-wide Stormwater Compliance Program that includes strict training, management, and reporting requirements to improve future compliance.

The publication of this notice opens a period for public comment on the proposed Consent Decree. Comments should be addressed to the Assistant Attorney General, Environment and Natural Resources Division, and should refer to United States v. Allan Myers, Inc., et al, Civil Action No. 15-1992, D.J. Ref. No. 90-5-1-1-09042. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree and Stipulated Judgment and Permanent Injunction may be examined and downloaded at this Justice Department Web site: http://www.usdoj.gov/enrd/Consent_Decrees.html. We will provide a paper copy of the proposed Consent Decree and Stipulated Judgment and Permanent Injunction upon written request and payment of reproduction costs. Please mail your request and payment to: Consent Decree Library, U.S. DOJ—ENRD, P.O. Box 7611, Washington, DC 20044-7611.

Please enclose a check or money order for $13.75 (25 cents per page reproduction cost) payable to the United States Treasury.

Robert Brook,
Assistant Section Chief, Environmental Enforcement Section, Environment and Natural Resources Division.

[FR Doc. 2015-09239 Filed 4-21-15; 8:45 am]

BILLING CODE 4410-15-P